GENERAL SERVICES ADMINISTRATION

[Notice-MA-2025-05; Docket No. 2025-0002; Sequence No. 3]

Federal Management Regulation (FMR); Rescinding FMR Bulletin B-2023-55

AGENCY: Office of Government-wide Policy (OGP), General Services Administration (GSA).

ACTION: Notice of recission of FMR Bulletin B-2023-55.

SUMMARY: GSA is issuing a notice to rescind Federal Management Regulation (FMR) Bulletin B-2023-55, “Fleet Management Information Systems” dated May 19, 2023 due to recent Executive orders.

DATES: Applicability date: April 17, 2025.

FOR FURTHER INFORMATION CONTACT: For clarification of content please contact Mr. Alexander J. Kurien, Deputy Associate Administrator, Office of Government-wide Policy, Office of Asset and Transportation Management, at 202-495-9628 or by email at vehicle.policy@gsa.gov.

SUPPLEMENTARY INFORMATION:

Background

GSA is rescinding FMR Bulletin B-2023-55 in line with Executive Orders (E.O.) 14148, Initial Rescissions of Harmful Executive Orders and Actions, dated January 20, 2025, and E.O. 14154, Unleashing American Energy, dated January 20, 2025, which revoked E.O. 14057, Catalyzing Clean Energy Industries and Jobs Through Federal Sustainability, dated December 8, 2021.

Larry Allen,
Associate Administrator, Office of Government-wide Policy.

[FR Doc. 2025-06582 Filed 4-16-25; 8:45 am]

BILLING CODE 6820-14-P